DEPARTMENT OF DEFENSE

Office of the Secretary

Office of Economic Adjustment; Announcement of Federal Funding Opportunity (FFO)

AGENCY: Office of Economic Adjustment (OEA), Department of Defense (DoD).

ACTION: Federal funding opportunity announcement.

SUMMARY: The Secretary of Defense was previously authorized to establish a limited program to construct, renovate, repair, or expand elementary and secondary public schools on military installations in order to address capacity or facility condition deficiencies at such schools. In fiscal year 2015 Congress made available an additional $175 million for the program and included additional program requirements regarding cost sharing or matching applicable to the additional $175 million and any remaining unobligated balances for this program. This notice explains the additional program requirements regarding cost sharing or matching and provides updated proposal and submission information and Federal award agency contact information for this program.

SUPPLEMENTARY INFORMATION: a. Federal Awarding Agency: Office of Economic Adjustment (OEA), Department of Defense (DoD).

b. Funding Opportunity Title: Department of Defense Program for Construction, Renovation, Repair or Expansion of Public Schools Located on Military Installations.

c. Announcement Type: Modification of Previously Announced Federal Funding Opportunity published in the September 9, 2011 Federal Register (76 FR 55883).

d. Catalog of Federal Domestic Assistance (CFDA) Number & Title: 12.600, Community Investment.

e. Key Dates: Submissions will be accepted by invitation only as described in the Federal Register Notice dated September 9, 2011 (76 FR 55883), and this notice.

I. Period of Funding Opportunity

Funding remains available until expended, as described in the Federal Register Notice dated September 9, 2011 (76 FR 55883), and this notice.

II. Funding Opportunity

a. Program Description

Please refer to the Federal Funding Opportunity Title: Department of Defense Program for Construction, Renovation, Repair or Expansion of Public Schools Located on Military Installations.

Announcement Type: Federal Funding Opportunity.

Catalog of Federal Domestic Assistance (CFDA) Number: 12.600.

Date: September 9, 2011

The Secretary of Defense is authorized by Section 8017 of Public Law 113-291, the Consolidated and Further Continuing Appropriations Act of 2015, acting through OEA, to provide up to $175 million “to make grants, conclude cooperative agreements, or supplement other Federal funds to construct, renovate, repair, or expand elementary and secondary public schools on military installations in order to address capacity or facility condition deficiencies at such schools: Provided further, that in making such funds available, OEA shall give priority consideration to those military installations with schools having the most serious capacity or facility condition deficiencies as determined by the Secretary of Defense: Provided further, that a matching share, as outlined by the Department of Defense in the guidelines published in the September 9, 2011, Federal Register (76 FR 55883), is required to be provided by the local education authority (LEA) or the State in which the school is located. Provided further, these provisions apply to funds provided under this section, and to funds previously provided by Congress to construct, renovate, repair, or expand elementary and secondary public schools on military installations in order to address capacity or facility condition deficiencies at such schools to the extent such funds remain unobligated the date of enactment of this section.” Section 8109 of Public Law 112-10, the Department of Defense and Full-Year Continuing Appropriations Act, 2011; Section 8118 of Public Law 112-74, the Consolidated Appropriations Act, 2012; and Section 8108 of Public Law 113-6, the Consolidated and Further Continuing Appropriations Act, 2013, previously provided a total of $770 million to construct, renovate, repair, or expand elementary and secondary public schools on military installations. OEA announced procedures for administering this program in a Federal Register Notice dated September 9, 2011 (76 FR 55883).

This notice explains additional program requirements applicable to the additional $175 million and any remaining unobligated balances previously provided by Congress for this program, pursuant to Section 8017 of Public Law 113-291.

b. Federal Award Information

Awards under this FFO will be issued in the form of a grant agreement in accordance with 31 U.S.C. 6304.

III. Eligibility Information

a. Eligible Applicants

As described in the Federal Register Notice dated September 9, 2011 (76 FR 55883).

b. Eligible Activities

As described in the Federal Register Notice dated September 9, 2011 (76 FR 55883).

c. Cost Sharing or Matching

Section 8017 of Public Law 113-291 established a matching share requirement applicable to the $175 million provided by that legislation, and any remaining unobligated balances previously provided for this program.

(1) A matching share, equal to not less than twenty (20) percent of the total project cost, shall be provided by the LEA or the State in which the school is located.

(2) The matching share may be cash, an in-kind contribution, or a combination of both. The LEA or the State must demonstrate that the match is or will be available to permit timely execution of the project.

(3) For the purposes of this funding, the LEA or the State may use other Federal-sourced or non-Federal funds (State, local, or private contributions) committed to or available for the project to meet the matching share requirement.

(4) OEA may, in its sole discretion, waive part of the matching share requirement provided the LEA or the State establishes to the satisfaction of OEA an inability to provide the required matching share.

(5) Otherwise eligible schools that are unable to provide the required matching share and have not established an inability to do so will not be considered for funding.

IV. Proposal and Submission Information

a. Submission of a Proposal

As described in the Federal Register Notice dated September 9, 2011 (76 FR 55883).

b. Content and Form of Proposal Submission

As described in the Federal Register Notice dated September 9, 2011 (76 FR 55883).

c. Unique Entity Identifier and System for Award Management (SAM)

Each applicant is required to: (a) Provide a valid Dun and Bradstreet Universal Numbering System (DUNS) number; (b) be registered in SAM before submitting its application; and (c) continue to maintain an active SAM registration with current information at all times during which it has an active Federal award or an application or plan under consideration by a Federal awarding agency. OEA may not make a Federal award to an applicant until the applicant has complied with all applicable unique entity identifier and SAM requirements and, if an applicant has not fully complied with the requirements by the time OEA is ready to issue a Federal award, OEA may determine that the applicant is not qualified to receive a Federal award and use that determination as a basis for making a Federal award to another applicant.

d. Submission Dates and Times

Proposals will be accepted by invitation only, subject to available appropriations, commencing on the date of publication of this notice and as described in the Federal Register Notice dated September 9, 2011 (76 FR 55883).

e. Application Review Information

i. Selection Criteria

As described in the Federal Register Notice dated September 9, 2011 (76 FR 55883).

ii. Review and Selection Process

As described in the Federal Register Notice dated September 9, 2011 (76 FR 55883).

f. Federal Award Adminstration Information

i. Federal Award Notices

In the event a grant is awarded, the successful applicant (Grantee) will receive a notice of award in the form of a grant agreement, signed by the Director, OEA (Grantor), on behalf of DoD. The grant agreement will be transmitted electronically or, if necessary, by U.S. Mail.

ii. Administrative and National Policy Requirements

Any grant awarded under this program will be governed by the provisions of the OMB circulars applicable to financial assistance and DoD's implementing regulations in place at the time of the award. A Grantee receiving funds under this opportunity and any consultant or pass-thru entity operating under the terms of a grant shall comply with all Federal, State, and local laws applicable to its activities. Federal regulations that will apply to an OEA grant include administrative requirements and provisions governing allowable costs as stated in:

• 2 CFR part 200, “Uniform Administrative Requirements, Cost Principles, and Audit Requirements for Federal Awards”;

• 2 CFR part 1103, “Interim Grants and Cooperative Agreements Implementation of Guidance in 2 CFR part 200, “Uniform Administrative Requirements, Cost Principles, And Audit Requirements for Federal Awards”;

• 2 CFR part 25, “Universal Identifier and System for Award Management”;

• 2 CFR part 170, “Reporting Subaward and Executive Compensation Information”;

• 2 CFR part 180, OMB Guidelines to Agencies on Government-wide Debarment and Suspension (Nonprocurement), as implemented by DoD in 2 CFR part 1125, Department of Defense Nonprocurement Debarment and Suspension; and

• 32 CFR part 28, “New Restrictions on Lobbying”.

Additional requirements applicable to construction awards include compliance with:

• National Environmental Protection Act (NEPA)

• National Historic Preservation Act

iii. Reporting

OEA requires periodic performance reports, an interim financial report for each 12 months a grant is active, and one final performance report for any grant. The performance reports will contain information on the following:

• A comparison of actual accomplishments to the objectives established for the period;

• reasons for slippage if established objectives were not met;

• additional pertinent information when appropriate;

• a comparison of actual and projected quarterly expenditures in the grant; and,

• the amount of Federal cash on hand at the beginning and end of the reporting period.

The final performance report must contain a summary of activities for the entire grant period. All required deliverables should be submitted with the final performance report.

The final SF 425, “Federal Financial Report,” must be submitted to OEA within 90 days after the end of the grant.

V. Federal Awarding Agency Contacts

For further information, to answer questions, or for help with problems related to this program, contact: Ms. Nia Hope, Program Director, Community Investment, Office of Economic Adjustment, 2231 Crystal Drive, Suite 520, Arlington, VA 22202-3711. Office: (703) 697-2088. Email: nia.a.hope.civ@mail.mil.

The OEA homepage address is: http://www.oea.gov.

Specific questions concerning the Department's Public Schools on Military Installations Priority List should be directed to Gerald David, Department of Defense Education Activity at gerald.david@hq.dodea.edu.

Dated: April 20, 2015.
Aaron Siegel,
Alternate OSD Federal Register Liaison Officer, Department of Defense.

[FR Doc. 2015-09485 Filed 4-22-15; 8:45 am]

BILLING CODE 5001-06-P